DEPARTMENT OF STATE

[Public Notice 5751]

Bureau of Political-Military Affairs; Statutory Debarment of ITT Corporation Pursuant to the Arms Export Control Act and the International Traffic in Arms Regulations

ACTION: Notice.

SUMMARY: Notice is hereby given that persons convicted of violating Section 38 of the Arms Export Control Act, as amended, (“AECA”) (22 U.S.C. 2778) are statutorily debarred pursuant to Section 38(g)(4) of the AECA and Section 127.7(c) of the International Traffic in Arms Regulations (“ITAR”) (22 CFR 127.7(c)). On March 28, 2007, in the United States District Court for the Western District of Virginia, ITT Corporation entered a guilty plea to the willful export of defense articles without a license, in violation of Section 38 of the AECA and Sections 127.1(a) and 127.3 of the ITAR.

EFFECTIVE DATE: March 28, 2007.

FOR FURTHER INFORMATION CONTACT: David Trimble, Director, Office of Defense Trade Controls Compliance, Bureau of Political-Military Affairs, Department of State (202) 663-2700.

SUPPLEMENTARY INFORMATION: Section 38(g)(4) of the AECA, 22 U.S.C. 2778(g)(4), prohibits the Department of State from issuing licenses for the export of items on the U.S. Munitions List, where the applicant or any party to the export, has been convicted of violating certain statutory provisions, including Section 38 of the AECA. In implementing this provision, Section 127.7 of the ITAR, 22 CFR 127.7, provides for “statutory debarment” of any person who has been convicted of violating or conspiring to violate the AECA. Persons subject to debarment are prohibited from participating directly or indirectly in the export of defense articles, including technical data, or in the furnishing of defense services for which a license or other approval is required.

On March 28, 2007, in the United States District Court for the Western District of Virginia, ITT Corporation entered a guilty plea to the willful export of defense articles without a license, in violation of Section 38 of the AECA and Sections 127.1(a) and 127.3 of the ITAR. Pursuant to Section 38(g)(4) of the AECA and Section 127.7(c) of the ITAR, ITT Corporation is statutorily debarred. The Acting Assistant Secretary of State for Political-Military Affairs after a full review of the circumstances, finding that appropriate steps have been taken to mitigate any law enforcement concerns, has decided to except out of the statutory debarment all present ITT Corporation business units but the culpable ITT entity responsible for the violations resulting in the aforementioned plea, ITT-Night Vision Division.

The Acting Assistant Secretary for Political-Military Affairs has determined, based on the underlying nature of the violations, the debarment period shall be for three years, however, the Department will consider reinstatement requests from debarred persons one year after the date of debarment. At the end of the debarment period, export privileges may be reinstated only at the request of ITT Corporation, followed by interagency consultations, after a thorough review of the circumstances surrounding the conviction, and a finding that appropriate steps have been taken to mitigate any law enforcement concerns as required by Section 38(g)(4) of the AECA. Unless export privileges are reinstated, however, ITT Corporation will remain debarred.

Exceptions, also known as transaction exceptions, may be granted with respect to this debarment on a case-by-case basis at the discretion of the Assistant Secretary of State for Political-Military Affairs after a thorough review of the circumstances surrounding the conviction, and a finding that appropriate steps have been taken to mitigate any law enforcement concerns. Such exceptions have been granted with respect to certain existing authorization and pending authorizations for key programs involving ITT-Night Vision Division that have been identified as being necessary to U.S. national security and foreign policy interests. Approvals of future requests for authorizations may be granted after a full review of all circumstances to include law enforcement concerns and whether an exception is warranted by overriding U.S. foreign policy or national security interests, or whether an exception would further law enforcement concerns that are consistent with foreign policy or national security interest of the United States, and whether other compelling concerns exist that are consistent with the foreign policy or national security interests of the United States.

Debarred persons are generally ineligible to participate in activity regulated under the ITAR (see e.g., Sections 120.1(c) and (d) and 127.11(a)). Pursuant to Section 127.1(c) of the ITAR, any person who has knowledge that another person is subject to debarment or is otherwise ineligible may not, without disclosure to and written approval from the Directorate of Defense Trade Controls, participate, directly or indirectly, in any export in which such ineligible person may benefit or have any direct or indirect interest.

This notice is provided to make the public aware that the parties listed above, unless an exception applies, are prohibited from participating directly or indirectly in activities regulated by the ITAR, including any brokering activities, and in any export from or temporary import into the United States of defense articles, related technical data, or defense services in all situations covered by the ITAR. Specific case information may be obtained from the Office of the clerk for the U.S. District Court mentioned above.

Dated: March 26, 2007.
Stephen D. Mull,
Acting Assistant Secretary for Political-Military Affairs.

[FR Doc. E7-6869 Filed 4-10-07; 8:45 am]

BILLING CODE 4710-25-P